DEPARTMENT OF COMMERCE

International Trade Administration

[A-469-805]

Correction to Notice of Extension of Time Limit for Preliminary Results of Antidumping Duty Administrative Review: Stainless Steel Bar From Spain

AGENCY: Import Administration, International Trade Administration, Department of Commerce

DATES: Effective Date: December 15, 2006.

FOR FURTHER INFORMATION CONTACT: Dmitry Vladimirov or Minoo Hatten, AD/CVD Operations, Office 5, Import Administration, International Trade Administration, U.S. Department of Commerce, 14th Street and Constitution Avenue, NW., Washington, DC 20230; telephone: (202) 482-0665 and (202) 482-1690, respectively.

Correction

On December 1, 2006, the Department of Commerce published a notice of extension of time limit for the preliminary results of the antidumping duty administrative review of the order on stainless steel bar from Spain for the period March 1, 2005, through February 28, 2006. See Notice of Extension of Time Limit for Preliminary Results of Antidumping Duty Administrative Review: Stainless Steel Bar from Spain, 71 FR 69550 (December 1, 2006) (Extension Notice). Subsequent to the publication of the Extension Notice in the Federal Register we identified an inadvertent error.

The Extension Notice states incorrectly that we are extending the time period for issuing the preliminary results of this review to February 13, 2006. The Extension Notice is hereby corrected to read that we are extending the time period for issuing the preliminary results of this review to February 13, 2007.

This correction is issued and published in accordance with section 777(i) of the Tariff Act of 1930, as amended.

Dated: December 11, 2006.
Stephen J. Claeys,
Deputy Assistant Secretary for Import Administration.

[FR Doc. E6-21438 Filed 12-14-06; 8:45 am]

BILLING CODE 3510-DS-P